DEPARTMENT OF STATE

[Public Notice 4024]

Foreign Service Institute; 60-Day Notice of Proposed Information Collection: Form DS-3083, Training Registration Form (for Non-U.S. Government Persons); OMB Control Number 1405-xxxx

ACTION: Notice.

SUMMARY: The Department of State is seeking Office of Management and Budget (OMB)approval for the information collection described below. The purpose of this notice is to allow 60 days for public comment in the Federal Register preceding submission to OMB. This process is conducted in accordance with the Paperwork Reduction Act of 1995.

The following summarizes the information collection proposal to be submitted to OMB:

Type of Request: New collection.

Originating Office: Foreign Service Institute (M/FSI).

Title of Information Collection: Training Registration Form (for Non-U.S. Government Persons).

Frequency: Continuously (as needed for covered individuals to enroll in training courses provided by the Foreign Service Institute, Department of State).

Form Number: DS-3083.

Respondents: Respondents are non-U.S. Government persons and/or their eligible family members, authorized by Public Law 105-277 to receive training delivered by the Foreign Service Institute on a reimbursable or advance of funds basis.

Estimated Number of Respondents: Approximately 100 to 200 persons per year.

Average Hours Per Response: 0.5 hours (one-half hour).

Total Estimated Burden: Approximately 50 to 100 hours/year.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

For Additional Information: Public comments, or requests for additional information, regarding the collection listed in this notice should be directed to Wayne A. Oshima, who may be reached on (703) 302-6730.

Dated: April 29, 2002.
Catherine J. Russell,
Executive Director, Foreign Service Institute, Department of State.

[FR Doc. 02-12999 Filed 5-22-02; 8:45 am]

BILLING CODE 4710-34-P